DEPARTMENT OF TRANSPORTATION

Federal Aviation Administration

14 CFR Part 39

[Docket No. 99-NM-272-AD; Amendment 39-12193; AD 2001-08-16]

RIN 2120-AA64

Airworthiness Directives; McDonnell Douglas Model DC-8 Series Airplanes

AGENCY: Federal Aviation Administration, DOT.

ACTION: Final rule.

SUMMARY: This amendment adopts a new airworthiness directive (AD), applicable to certain McDonnell Douglas Model DC-8 series airplanes, that requires a one-time inspection to determine the manufacturer of the circuit breakers, and corrective action, if necessary. This amendment is prompted by reports of smoke and electrical odor in the flight compartment and cabin area as a result of failure of circuit breakers. The actions specified by this AD are intended to prevent internal overheating and arcing of the circuit breakers and airplane wiring due to long-term use and breakdown of internal components of the circuit breakers, which could result in smoke and fire in the flight compartment and main cabin.

DATES: Effective May 31, 2001.

The incorporation by reference of certain publications listed in the regulations is approved by the Director of the Federal Register as of May 31, 2001.

ADDRESSES: The service information referenced in this AD may be obtained from Boeing Commercial Aircraft Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Elvin Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION: A proposal to amend part 39 of the Federal Aviation Regulations (14 CFR part 39) to include an airworthiness directive (AD) that is applicable to certain McDonnell Douglas Model DC-8 series airplanes was published in the Federal Register on September 1, 2000 (65 FR 53199). That action proposed to require a one-time inspection to determine the manufacturer of the circuit breakers, and corrective action, if necessary.

Comment Received

Interested persons have been afforded an opportunity to participate in the making of this amendment. Due consideration has been given to the comment received.

One commenter requests that paragraph (a) of the proposed AD reference McDonnell Douglas Alert Service Bulletin DC8-24A075, Revision 2, dated May 2, 2000, as an acceptable method of compliance.

The FAA agrees. Since issuance of the notice of proposed rulemaking (NPRM) the FAA has reviewed and approved Revision 02 of McDonnell Douglas Alert Service Bulletin DC8-24A075. Revision 02 is essentially identical to Revision 01 of the service bulletin, which was referenced in the NPRM as the appropriate source of service information for accomplishing the proposed actions. No more work is necessary on airplanes changed as shown in Revision 01 of the service bulletin. Therefore, we have revised the final rule accordingly to reference Revision 02 of the service bulletin as an additional source of service information.

Conclusion

After careful review of the available data, including the comment noted above, the FAA has determined that air safety and the public interest require the adoption of the rule with the change previously described. The FAA has determined that this change will neither increase the economic burden on any operator nor increase the scope of the AD.

Cost Impact

There are approximately 310 Model DC-8 series airplanes of the affected design in the worldwide fleet. The FAA estimates that 231 airplanes of U.S. registry will be affected by this AD, that it will take approximately 80 work hours per airplane to accomplish the required inspection of the circuit breakers (over 700 installed on each airplane), and that the average labor rate is $60 per work hour. Based on these figures, the cost impact of the AD on U.S. operators is estimated to be $1,108,800, or $4,800 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-08-16 McDonnell Douglas: Amendment 39-12193. Docket 99-NM-272-AD.

Applicability: Model DC-8 series airplanes, as listed in McDonnell Douglas Alert Service Bulletin DC8-24A075, Revision 02, dated May 2, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent internal overheating and arcing of the circuit breakers and airplane wiring due to long-term use and breakdown of internal components of the circuit breakers, which could result in smoke and fire in the flight compartment and main cabin, accomplish the following:

Inspection and Replacement, If Necessary

(a) Within 24 months after effective date of this AD: Perform a one-time inspection to determine the manufacturer of the circuit breaker in accordance with McDonnell Douglas Alert Service Bulletin DC8-24A075, Revision 01, dated September 21, 1999, or Revision 02, dated May 2, 2000.

(1) If no Wood Electric Corporation or Wood Electric Division of Potter Brumfield Corporation circuit breaker is found, no further action is required by this paragraph.

(2) If any Wood Electric Corporation or Wood Electric Division of Potter Brumfield Corporation circuit breaker is found, at the next scheduled maintenance visit, but not later than 24 months after the effective date of this AD, replace the circuit breaker with a new circuit breaker in accordance with the service bulletin.

Spares

(b) As of the effective date of this AD, no person shall install a circuit breaker, part number 104-205-104, 104-210-104, 104-215-104, 104-220-104, 104-225-104, 104-230-104, 104-235-104, 104-250-104, 446-250-102, 447-205-102, 448-205-102, 505-205-102, 506-205-102, 447-507-102, 448-507-102, 505-507-102, 506-507-102, 447-210-102, 448-210-102, 505-210-102, 506-210-102, 447-215-102, 448-215-102, 505-215-102, 506-215-102, 447-220-102, 448-220-102, 505-220-102, 506-220-102, 447-225-102, 448-225-102, 505-225-102, 506-225-102, 448-235-102, 505-235-102, or 506-235-102, on any airplane.

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 2: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Incorporation by Reference

(e) The actions shall be done in accordance with McDonnell Douglas Alert Service Bulletin DC8-24A075, Revision 01, dated September 21, 1999, or McDonnell Douglas Alert Service Bulletin DC8-24A075, Revision 02, dated May 2, 2000. This incorporation by reference was approved by the Director of the Federal Register in accordance with 5 U.S.C. 552(a) and 1 CFR part 51. Copies may be obtained from Boeing Commercial Aircraft Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(f) This amendment becomes effective on May 31, 2001.

Issued in Renton, Washington, on April 17, 2001.
Donald L. Riggin,
Acting Manager, Transport Airplane Directorate, Aircraft Certification Service.

[FR Doc. 01-9934 Filed 4-25-01; 8:45 am]

BILLING CODE 4910-13-P